DEPARTMENT OF HOMELAND SECURITY

Federal Emergency Management Agency

44 CFR Part 67

[Docket No. FEMA-B-7704]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[Amended]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground. * Elevation in feet (NGVD) + Elevation in feet (NAVD): Existing | # Depth in feet above ground. * Elevation in feet (NGVD) + Elevation in feet (NAVD): Modified
City of Anthon, Iowa
Iowa | City of Anthon/Woodbury County | Little Sioux River | At southern corporate limit, approximately 5,000 feet downstream of 220th Street Bridge | None | *1,100
|  |  | At northern corporate limit, approximately 5,500 feet upstream of 220th Street Bridge | None | *1,105
* National Geodetic Vertical Datum.
# Depth in feet above ground.
+ North American Vertical Datum.
ADDRESSES
City of Anthon
Maps are available for inspection at City Hall, 301 East Main Street, Anthon, Iowa 51004.
Send comments to Mayor Michael Sauser, City Hall, 301 East Main Street, Anthon, Iowa 51004.

Flooding source(s) | Location of referenced elevation | * Elevated in feet (NGVD) + Elevation in feet (NAVD) # Depth in feet above ground.: Effective | * Elevated in feet (NGVD) + Elevation in feet (NAVD) # Depth in feet above ground.: Modified | Communities affected
Eagle County, Colorado, and Incorporated Areas
Eagle River | Just upstream of the confluence with the Colorado River | None | +6,144 | Eagle County (Uninc. Areas),Town of Avon, Town of Eagle, Town of Gypsum, Town of Minturn.
| Approximately 1,040 feet downstream of the confluence with Two Elk Creek | *7,984 | +7,989 |
* National Geodetic Vertical Datum.
# Depth in feet above ground.
+ North American Vertical Datum.
ADDRESSES
Eagle County (Unincorporated Areas)
Maps are available for inspection at the Eagle County Building, 500 Broadway Street, Eagle, Colorado 81631.
Send comments to Honorable Peter Runyon, Chairman, Eagle County, Board of Commissioners, P.O. Box 850, Eagle, CO 81631.
Town of Avon
Maps are available for inspection at Avon Municipal Complex, 400 Benchmack Road, Avon, CO 81620.
Send comments to Honorable Buz Reynolds, Mayor, Town of Avon, P.O. Box 975, Avon, CO 81620.
Town of Eagle
Maps are available for inspection at Town Hall, Town of Eagle, 200 Broadway, Eagle, CO 81631.
Send comments to Honorable Jon Stavney, Mayor, 200 Broadway, P.O. Box 609, Eagle, CO 81631.
Town of Gypsum
Maps are available for inspection at Town Hall, Town of Gypsum, 50 Lundgren Boulevard, Gypsum, CO 81637.
Send comments to Honorable Stephen M. Carver, Mayor, Town of Gypsum, P.O. Box 130, Gypsum, CO 81637.
Town of Minturn
Map are available for inspection at Town Office, Town of Minturn, 302 Pine Street, Minturn, CO 81645.
Send comments to Honorable Gordon Flaherty, Mayor, Town of Minturn, P.O. Box 309, Minturn, CO 81645.
Hancock County, Indiana and Incorporated Areas
Bills Branch | At East 96th Street | None | +790 | Town of McCordsville.
| Approximately 400 feet upstream of North Wind River Run | None | +838 |
Brandywine Creek | Approximately 6,000 feet downstream of County Road 500 South | None | +831 | City of Greenfield, Hancock County (Unincorporated Areas).
| Approximately 790 feet upstream of County Road 400 North | None | +887 |
Briney Ditch | At the confluence with Little Brandywine Creek | None | +859 | Hancock County (Unincorporated Areas).
| Approximately 2,170 feet upstream of Interstate Highway 40 | None | +895 |
Dry Branch | At County Road 700 West | None | +831 | Town of McCordsville.
| Approximately 1,580 feet upstream of County Road 500 West | None | +858 | Hancock County (Unincorporated Areas).
Jackson Ditch | Approximately 1,190 feet downstream of West Staat Street | None | +845 | Town of Fortville.
| Approximately 600 feet upstream of County Road 200 West | None | +857 | Hancock County (Unincorporated Areas).
Jackson Arm Ditch | At the confluence with Jackson Ditch | None | +856 | Hancock County (Unincorporated Areas).
| Approximately 2,010 feet upstream of West 850 North | None | +865 |
Little Brandywine Creek | At Steel Ford Road | +857 | +856 | City of Greenfield.
| Approximately 230 feet upstream of County Road 300 North | None | +911 | Hancock County (Unincorporated Areas).
North Fork | At County Road 700 West | None | +820 | Town of McCordsville
| Approximately 1,170 feet upstream of County Road 900 North | None | +853 | Hancock County (Unincorporated Areas).
Putter Ditch | At the confluence with Brandywine Creek | +862 | +861 | City of Greenfield.
| Approximately 695 feet upstream of the confluence with Brandywine Creek | +862 | +861 |
Rash Ditch | At the confluence with Jackson Ditch | None | +855 | Hancock County (Unincorporated Areas).
| Just upstream of Meridian Road | None | +866 |
Stansbury Ditch | At the confluence with Dry Branch | None | +843 | Town of McCordsville.
| Approximately 4,610 feet upstream of County Road 700 North | None | +861 | Hancock County (Unincorporated Areas).
West Fork Bills Branch | At the confluence with Bills Branch | None | +796 | Town of McCordsville.
| Approximately 2,005 feet upstream of Cardinal Drive | None | +821 |
* National Geodetic Vertical Datum.
# Depth in feet above ground.
+ North American Vertical Datum.
ADDRESSES
Town of Fortville
Maps are available for inspection at Courthouse Annex, 111 South American Legion Place, Greenfield, Indiana 46140.
Send comments to Mr. Joe Renner, Town Manager, Town of Fortville, 714 East Broadway, Fortville, Indiana 46040.
Town of Greenfield
Maps are available for inspection at 10 South State Street, Greenfield, Indiana 46140.
Send comments to The Honorable Rodney Fleming, Mayor, City of Greenfield, Keith J. McClarnon Government Center, 10 South State Street, Greenfield, Indiana 46140.
Hancock County (Unincorporated Areas)
Maps are available for inspection at Courthouse Annex, 111 South American Legion Place, Greenfield, Indiana 46140.
Send comments to Mr. Brian Kleiman, President, Hancock County Board of Commissioners, 111 South American Legion Place, Greenfield, Indiana 46140.
Town of McCordsville
Maps are available for inspection at 9175 Stormy Port, McCordsville, Indiana 46055.
Send comments to Ms. Tonya Galbraith, Town Manager, Town of McCordsville, 5759 West Broadway, McCordsville, Indiana 46055.
Dodge County, Nebraska and Incorporated Areas
Platte River (levee failure) | At Downing Street, south of Union Pacific Railroad | #2 | +1188 | City of Fremont. City of Inglewood.
| At U.S. Highway 77 | None | +1197 | City of North Bend.
| Approximately 1 mile downstream of State Highway 79 | #2 #2 | +1268 +1279 | Unincorporated Areas of Dodge County.
| South of U.S. Highway 30 at County Road 5 | #2 | +1287 |
Platte River (levee) | Approximately ½ mile downstream of Burlington Northern Railroad | *1191 | +1195 | City of Fremont. City of Inglewood.
| At U.S. Highway 77 | *1196 | +1201 | City of North Bend.
| At County Road 19, south of Union Pacific Railroad | *1214 | +1216 | Dodge County (Unincorporated Areas).
| Approximately 1 mile downstream of State Highway 79 | *1267 | +1272 |
| Approximately 1 mile upstream of State Highway 79 | *1280 | +1285 |
| South of Union Pacific Railroad, just upstream of County Road 3 | *1298 | +1300 |
Platte River Overflow | Just north of 23rd Street, west of Burlington Northern Railroad | None | #2 | City of Fremont.
| At the intersection of County Road 5 and County Road S | None | #2 | City of Inglewood.
| Between U.S. Highway 275 and Old Highway 8 | #1 | #2 | City of North Bend.
| East of Burlington Northern Railroad and north of U.S. Highway 30/Highway 275 | #1 | #2 | Dodge County (Unincorporated Areas).
| Between U.S. Highway 30 and Burlington Northern Railroad, north of Rawhide Creek | #1 | #2 |
| U.S. Highway 77, north of U.S. Highway 30/Highway 275 | #2 | +1197 |
| At County Road 19, north of U.S. Highway 30 | #2 | +1212 |
| At the intersection of County Road 17 and County Road T | #2 | +1222 |
| At County Road 11, north of U.S. Highway 30 | #2 | +1255 |
| At Cottonwood Street, north of U.S. Highway 30 | #2 | +1276 |
* National Geodetic Vertical Datum.
# Depth in feet above ground.
+ North American Vertical Datum.
ADDRESSES
City of Inglewood
Maps are available for inspection at Inglewood Village Office, 445 Boulevard Street, Fremont, NE 68025.
Send comments to The Honorable Jerry Abrahamson, Chairman, Inglewood Village Board, 140 Boulevard Street, Inglewood, NE 68025.
City of North Bend
Maps are available for inspection at City Hall, North Bend, NE 68649.
Send comments to The Honorable Karan Legler, Mayor, City of North Bend, P.O. Box 491, North Bend, NE 68649.
Dodge County (Unincorporated Areas)
Maps are available for inspection at Dodge County Zoning Office, 435 N. Park, Fremont, NE 68025.
Send comments to The Honorable Bob Missel, Chairman, Dodge County Board, 427 N. Birchwood, Fremont, NE 68025.
Rockwall County, Texas and Incorporated Areas
Berry Creek | Approximately 3000 feet downstream from State Highway 205 | None | +487 | City of Mclendon-Chisholm.
| Approximately 1250 feet upstream from the confluence with Berry Creek Tributary 1 | None | +499 |
Bois d'Arc | Confluence with Sabine Creek | *530 | +527 | City of Royse City.
| Intersection with Highway 66 (County Boundary) | *534 | +535 |
Brushy Creek | Approximately 200 feet downstream from Klutts Drive | None | +485 | City of Mclendon-Chisholm.
| Approximately 4200 feet upstream from Highway 276 (WS SCS Site 1a Dam Spillway) | None | +565 | City of Rockwall.
Buffalo Creek | Approximately 2000 feet downstream from King Street (County Boundary) | *431 | +432 | City of Heath.
| Approximately 1500 feet upstream from T.L. Townsend Drive | *540 | +541 | City of Rockwall.
Buffalo Creek Tributary 1 | Approximately 1000 feet upstream from Highway 276 | *530 | +531 | City of Rockwall.
| At railroad tracks | None | +564 |
Buffalo Creek Tributary 1.1 | Confluence with Buffalo Creek Tributary 1 | *538 | +548 | City of Rockwall.
| Intersection with Alpha Drive | *552 | +553 |
Buffalo Creek Tributary 1.2 | Confluence with Buffalo Creek Tributary 1 | *547 | +551 | City of Rockwall.
| Intersection with Industrial Blvd. | *552 | +558 |
Camp Creek | Approximately 150 feet downstream from the confluence with Camp Creek Tributary 1 | *431 | +432 | City of Fate. Rockwall County (Unincorporated Areas).
| Approximately 1500 feet downstream from Riding Club Road | None | +565 |
Camp Creek Tributary 1 | Confluence with Camp Creek | *513 | +514 | City of Fate.
| Approximately 3000 feet upstream from WS SCS Site 3f Dam | None | +541 | Rockwall County (Unincorporated Areas).
Lake Ray Hubbard | Lake Ray Hubbard | None | +437 | City of Heath. City of Rockwall. Rockwall County (Unincorporated Areas).
Long Branch | Approximately 300 feet downstream from the confluence with Long Branch Tributary 15 | None | +439 | City of Heath. City of Mclendon-Chisholm.
| Approximately 1000 feet upstream from McDonald Road | None | +457 |
Parker Creek | Approximately 250 feet upstream from the confluence with Klutts Branch | None | +498 | City of Fate. City of Royse City.
| Approximately 2000 feet downstream from the confluence with Parker Creek Tributary 10 | None | +559 | Unincorporated Areas of Rockwall County.
Parker Creek Tributary 1 | Confluence with Parker Creek | None | +528 | City of Fate.
| Approximately 1000 feet upstream from Highway 66 | None | +577 | City of Royse City.
Parker Creek Tributary 2 | Confluence with Parker Creek Tributary 1 | None | +551 | City of Fate.
| Approximately 1500 feet upstream from Highway 66 | None | +580 |
Pond Branch | Approximately 3500 feet upstream from the confluence with Sabine Creek | *518 | +517 | City of Royse City.
| Approximately 100 feet upstream from Church Street | *537 | +536 |
Rush Creek | Approximately 750 feet upstream from Hubbard Drive | None | +437 | City of Heath.
| Approximately 500 feet upstream from FM 740 Road | None | +507 |
Sabine Creek | Confluence with Pond Creek | *513 | +514 | City of Royse City.
| County Line Road | *530 | +528 |
Squabble Creek | Golf Course Dam 1 | *441 | +439 | City of Rockwall.
| Approximately 2000 feet upstream from Highway 205 | *468 | +473 |
Yankee Creek | Approximately 1750 feet downstream from Terry Lane | None | +441 | City of Heath.
| Approximately 1250 feet downstream from the confluence with Yankee Creek Tributary 1 | None | +496 |
* National Geodetic Vertical Datum.
# Depth in feet above ground.
+ North American Vertical Datum.
ADDRESSES
City of Fate:
Maps are available for inspection at 105 Fate Main Place, Fate, TX 75132.
Send comments to The Honorable David Hill, Mayor, City of Fate, P.O. Box 31, Fate, TX 75132.
City of Heath
Maps are available for inspection at Heath City Hall, 200 Laurence Drive, Heath, TX 75032.
Send comments to The Honorable John Ratcliffe, Mayor, City of Heath, 200 Laurence Drive, Heath, TX 75032.
City of Mclendon-Chisholm
Maps are available for inspection at 1248 South Hwy 205, Rockwall, TX 75032.
Send comments to The Honorable Michael Donegan, Mayor, City of Mclendon-Chisholm, 1248 State Hwy 205, Rockwall, TX 75032.
City of Rockwall
Maps are available for inspection at City Hall, 205 East Rusk, Rockwall, TX 75087.
Send comments to The Honorable William Cecil, Mayor, City of Rockwall, 385 S. Goliad, Rockwall, TX 75087.
City of Royse City
Maps are available for inspection at City Hall, 205 East Rusk, Rockwall, TX 75087.
Send comments to The Honorable William Cecil, Mayor, City of Royse City, 385 S. Goliad, Rockwall, TX 75087.
Rockwall County (Unincorporated Areas)
Maps are available for inspection at Rockwall Government Building, 1101 Ridge Road, Rockwall, TX 75087.
Send comments to The Honorable Bill Bell, Judge, Rockwall County, 101 East Rusk, Rockwall, TX 75087.
Columbia County, Wisconsin and Incorporated Areas
Baraboo River | At confluence with the Wisconsin River | *788 | 790 | Columbia County.
| Downstream side of Interstate 90 | *797 | *796 | (Unincorporated Areas).
Big Slough | At confluence with Neenah Creek | *791 | *790 | Columbia County.
| Downstream side of State Highway 16 | *792 | *796 | (Unincorporated Areas).
Duck Creek | Upstream side of U.S. Highway 51 | *789 | *791 | Columbia County.
| Upstream side of Chicago Milwaukee St. Paul and Pacific Railroad | *791 | *791 | (Unincorporated Areas).
Fox River | At downstream county boundary between Columbia and Marquette counties | *782 | *779 | City of Portage, Columbia County (Unincorporated Areas.)
| Downstream side of Chicago Milwaukee St. Paul and Pacific Railroad | *789 | *785 |
Neenah Creek | Downstream side of County Highway CM | *783 | *781 | Columbia County (Unincorporated Areas).
| At confluence with Big Slough | *791 | *790 |
Spring Creek | Approximately ½ mile downstream of Fair Street | *806 | *805 | City of Lodi.
| Upstream side of Riddle Road | *833 | *834 |
Spring Creek Tributary A | At confluence with Spring Creek | *821 | *821 | City of Lodi.
| Approximately 1,300 feet upstream of Spring Street | *821 | *821 |
Wisconsin River | Downstream side of State Highway 60 | *748 | *748 | City of portage, City of Wisconsin Dells, Columbia County (Unincorporated Areas).
| Upstream side of Interstate 39 | *795 | *798 |
| At upstream county boundary between Columbia and Adams counties | *848 | *848 |
* National Geodetic Vertical Datum.
# Depth in feet above ground.
+ North American Vertical Datum.
ADDRESSES
Columbia County (Unincorporated Areas)
Maps are available for inspection at: Columbia County Planning and Zoning Department, 400 DeWitt St., Portage, WI 53901.
Send comments to: John Bluemke, Director of Planning and Zoning, 400 DeWitt St., Portage, WI 53901.
City of Lodi
Maps are available for inspection at: City Clerk's Office, 130 S. Main St., Lodi, WI 53555.
Send comments to: Zoning Administrator, 130 S. Main St., Lodi, WI 53555.
City of Portage
Maps are available for inspection at: City Hall, 115 W. Pleasant St., Portage, WI 53901.
Send comments to: City Administrator, 115 W. Pleasant St., Portage, WI 53901.
City of Wisconsin Dells
Maps are available for inspection at: City Hall, 300 La Crosse St., Wisconsin Dells, WI 53965.
Send comments to: Michael Horkan, Director of Public Works, 300 La Crosse St., Wisconsin Dells, WI 53965.
Spokane County, Washington (Unincorporated Areas).
Chester Creek | Approximately 3520 feet downstream of the downstream intersection of Chester Creek and Nina Circle | *1984 | + 1986 | Spokane County (Unincorporated Areas).
| The downstream intersection of Chester Creek and Nina Circle 40 feet | *1988 | + 1993 |
| Upstream of the intersection between Chester Creek and Dishman Mica Road | None | + 2229 |
Chester Creek (without levee) downstream of Bowdish Road | Approximately 2240 feet downstream of the intersection with Bowdish Road | None | + 2006 | Spokane County (Unincorporated Areas).
| Approximately 25 feet downstream of the intersection with Bowdish Road | None | + 2008 |
Chester Creek (without levee) upstream of Bowdish Road | Approximately 70 feet upstream of Bowdish Road | None | + 2008 | Spokane County (Unincorporated Areas).
| Approximately 1040 feet upstream of Bowdish Road | None | + 2010 |
Chester Creek Golf Course Overflow | Approximately 1900 feet downstream of Thorpe Road | None | + 2010 | Spokane County (Unincorporated Areas).
| Approximately 70 feet downstream from the divergence from Chester Creek | None | + 2026 |
Chester Creek West of Borrow Pit | Just upstream of the confluence with Chester Creek | None | + 1998 | Spokane County (Unincorporated Areas).
| Just downstream of South Shafer Road | None | + 2006 |
Dredge Channel | Just upstream of the confluence with Chester Creek | None | + 2005 | Spokane County (Unincorporated Areas).
| Approximately 1330 feet upstream of the confluence with Chester Creek | None | + 2006 |
Left Bank Overflow Channel | Just upstream of the confluence with the Unamed Tributary to Chester Creek | None | + 2009 | Spokane County (Unincorporated Areas).
| Approximately 3000 feet upstream of the confluence with the Unamed Tributary to Chester Creek | None | + 2016 |
Right Bank Overflow Channel | Approximately 2650 feet downstream of East 46th Avenue | None | + 2020 | Spokane County (Unincorporated Areas).
| Approximately 60 feet downstream of East 46th Avenue | None | + 2038
Storage Area 1 | Southwest of the Pines Road and East 40th Avenue intersection | None | + 2008 | Spokane County (Unincorporated Areas).
Storage Area 2 | South of 28th Avenue and east of South Dishman Mica Road | None | + 2001 | Spokane County (Unincorporated Areas).
Storage Area 3 | East of Dishman Mica Road at South Raymond Road and 28th Avenue intersection | None | + 2001 | Spokane County (Unincorporated Areas).
Storage Area 4 | Southeast of the U.S. Highway 27 and East Belle Terre Avenue intersection | None | + 2019 | Spokane County (Unincorporated Areas).
Storage Area 5 | North of East 28th Avenue and east of Dishman Mica Road | None | + 2001 | Spokane County (Unincorporated Areas).
Unamed Tributary to Chester Creek | Approximately 3415 feet downstream of intersection with Pines Road | None | + 2008 | Spokane County (Unincorporated Areas).
| Approximately 440 feet upstream of the intersection with South Tolbert Lane | None | + 2092 |
* National Geodetic Vertical Datum.
# Depth in feet above ground.
+ North American Vertical Datum.
ADDRESSES
Spokane County (Unincorporated Areas).
Maps are available for inspection at 1026 West Broadway, Spokane, WA 99260.
Send comments to The Honorable Marshall Farnell, Chairman, Spokane County Board of Commissioners, 1116 West Broadway Courthouse, Spokane, WA 99260.
Whatcom County, Washington, and Incorporated Areas
Birch Bay | Intersection of Birch Bay Drive and Lora Lane | *8 | *8 | Whatcom County (Unincorporated Areas).
| Intersection of Birch Bay Drive and Harborview Road | None | *12 |
| 500 feet southwest of the intersection of Comox Road and Nakat Place | None | *14 |
Lummi Bay | 2000 feet south of the intersection of Sicia Drive and Germaine Road, 100 feet west of Sucia Drive | *11 | *10 | Tribe of Lummi Indian Reservation
| 1500 feet north of the intersection of Sucia Drive and Thetis Street, 100 feet west of Sucia Drive | #3 | *11 |
* National Geodetic Vertical Datum.
# Depth in feet above ground.
+ North American Vertical Datum.
ADDRESSES
Tribe of Lummi Indian Reservation
Maps are available for inspection at Lummi Land Development Office, 2616 Kwina Drive, Bellingham, WA 98226.
Send comments to The Honorable Darrel Hillaire, Chairman, Lummi Indian Business Council, 2616 Kwina Drive, Bellingham, WA 98226.
Whatcom County (Unincorporated Areas).
Maps are available for inspection at Whatcom County Public Works, River and Flood Division, 322 North Commercial Street, Suite 1200, Bellingham, WA 98225.
Send comments to The Honorable Pete Kremen, County Executive, Whatcom County, 311 Grand Avenue, Suite 108, Bellingham, WA 98225.
Burnett County, Wisconsin, and Incorporated Areas
Austin Lake | Austin Lake | None | +966 | Burnett County (Unincorporated Areas).
Big Doctor Lake | Big Doctor Lake | None | +987 | Village of Siren, Burnett County (Unincorporated Areas).
Big McKenzie Lake | Big McKenzie Lake | None | +990 | Burnett County (Unincorporated Areas).
Birch Island Lake | Birch Island Lake | None | +995 | Burnett County (Unincorporated Areas).
Clam Lake Flowage | Clam Lake Flowage | None | +905 | Burnett County (Unincorporated Areas).
Danbury Flowage | Danbury Flowage | *930 | +932 | Burnett County (Unincorporated Areas).
Devils Lake | Devils Lake | None | +965 | Burnett County (Unincorporated Areas).
Dunham Lake | Dunham Lake | None | +978 | Burnett County (Unincorporated Areas).
Lily Lake | Lily Lake | None | +996 | Burnett County (Unincorporated Areas).
Little Yellow Lake | Little Yellow Lake | *931 | +933 | Burnett County (Unincorporated Areas).
Long Lake (T38NR16WS16) | Long Lake (T38NR16WS16) | None | +962 | Burnett County (Unincorporated Areas).
Lower Clam Lake | Lower Clam Lake | None | +956 | Burnett County (Unincorporated Areas).
Lost Lake #1 | Lost Lake #1 | None | +993 | Burnett County (Unincorporated Areas).
Lost Lakes #2, 3, 4 | Lost Lakes #2, 3, 4 | None | +992 | Burnett County (Unincorporated Areas).
Middle McKenzie Lake | Middle McKenzie Lake | None | +989 | Burnett County (Unincorporated Areas).
Mud Lake | Mud Lake | None | +965 | Burnett County (Unincorporated Areas).
Nickaboyne Lake | Nickaboyne Lake | None | +994 | Burnett County (Unincorporated Areas).
Tabor Lake | Tabor Lake | None | +942 | Burnett County (Unincorporated Areas).
Webb Lake | Webb Lake | None | +941 | Burnett County (Unincorporated Areas).
Wood River | Approximately 950 feet downstream of Cross Town Road | None | +915 | Burnett County (Unincorporated Areas).
| Downstream of County Highway Y | None | +918 |
Yellow Lake | Yellow Lake | *931 | +933 | Burnett County (Unincorporated Areas).
Yellow River | At confluence with the St. Croix River | None | +873 | Village of Webster, Burnett County (Unincorporated Areas).
| Approximately 820 feet upstream of Yellow River Road | None | +999
* National Geodetic Vertical Datum.
# Depth in feet above ground.
+ North American Vertical Datum.
ADDRESSES
Burnett County (Unincorporated Areas).
Maps are available for inspection at: Burnett County Department of Planning and Zoning, 7410 Co Rd K, Siren, WI 54872.
Send comments to: James P. Flanigan, Zoning Administrator, 7410 Co Rd K, Siren, WI 54872.
Village of Siren
Maps are available for inspection at: Village Hall, 24049—1st Ave., N., Siren, WI 54872.
Send comments to: Richard Engstrom, Village President, 24049—1st Ave., N., Siren, WI 54872.
Village of Webster
Maps are available for inspection at: Village Hall, 7505 Main St., Webster, WI 54893.
Send comments to: Paul Cyms, Village President, 7505 Main St., Webster, WI 54893.

(Catalog of Federal Domestic Assistance No. 83.100, “Flood Insurance.”)

Dated: January 23, 2007.
David I. Maurstad,
Director, Mitigation Division, Federal Emergency Management Agency, Department of Homeland Security.

[FR Doc. E7-1770 Filed 2-2-07; 8:45 am]

BILLING CODE 9110-12-P